DEPARTMENT OF THE INTERIOR

Bureau of Land Management

[LLAK920000-L14100000-BJ0000]

Notice of Filing of Plats of Survey; Alaska

AGENCY: Bureau of Land Management, Interior.

ACTION: Notice of filing of plat of survey.

SUMMARY: The plat and field notes representing the dependent resurvey of U.S. Survey No. 4385, Alaska, has been accepted by the Chief Cadastral Surveyor for Alaska. This notice provides an opportunity for the public to comment on the proposed action. This survey is located along Mentasta Lake Road, approximately 1½ miles northeasterly of the village of Mentasta, within Tps. 13 and 14 N., R. 3 E., Copper River Meridian, Alaska.

DATES: The plat of survey described above is scheduled to be officially filed in the Alaska State Office, Bureau of Land Management, Anchorage, Alaska, May 18, 2012. Protests of the survey must be filed before May 18, 2012 to be considered.

ADDRESSES: Bureau of Land Management, Alaska State Office; 222 W. 7th Ave., Stop 13; Anchorage, AK 99513-7599.

FOR FURTHER INFORMATION CONTACT: Michael H. Schoder, Chief Cadastral Surveyor, Division of Cadastral Survey, BLM-Alaska State Office; 222 W. 7th Ave., Stop 13; Anchorage, AK 99513-7599; Tel: 907-271-5481; fax: 907-271-4549; email: mschoder@blm.gov.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The survey plat and field notes will be available for inspection in the Public Information Center, Alaska State Office, Bureau of Land Management, 222 West 7th Avenue, Anchorage, Alaska 99513-7599; telephone (907) 271-5960. Copies may be obtained from this office for a minimum recovery fee.

If a protest against the survey is received prior to the date of official filing, the filing will be stayed pending consideration of the protest. A plat will not be officially filed until the day after all protests have been dismissed.

A person or party who wishes to protest against this survey must file a written response with the Alaska State Director, Bureau of Land Management, 222 West 7th Avenue, Anchorage, Alaska 99513-7599, stating that they wish to protest.

Before including your address, phone number, email address, or other personal identifying information in your comment, you should be aware that your entire comment—including your personal identifying information—may be made publicly available at any time. While you can ask us in your comment to withhold your personal identifying information from public review, we cannot guarantee that we will be able to do so.

A statement of reasons for a protest may be filed with the notice of protest to the State Director; the statement of reasons must be filed with the State Director within thirty days after the protest is filed.

Authority: 43 U.S.C. 3; 53.

Dated: April 11, 2012
Michael H. Schoder,
Chief Cadastral Surveyor, Alaska.

[FR Doc. 2012-9293 Filed 4-17-12; 8:45 am]

BILLING CODE 4310-JA-P